ENVIRONMENTAL PROTECTION AGENCY

40 CFR Part 52

[FL-83-200009; FRL-6578-4]

Approval and Promulgation of Implementation Plans; Florida: Approval of Revisions to the Florida State Implementation Plan; Extension of Comment Period

AGENCY: Environmental Protection Agency (EPA).

ACTION: Proposed rule; extension of the comment period.

SUMMARY: EPA is extending the comment period for a proposed rule published March 17, 2000 (65 FR 14506). On March 17, 2000, EPA proposed an approval of revisions to the Florida State Implementation Plan concerning revisions to the ozone air quality maintenance plans for the Jacksonville (Duval County) and Southeast Florida (Broward, Dade, and Palm Beach Counties) areas to remove the emission reduction credits attributable to the Motor Vehicle Inspection Program from the future year emission projections contained in those plans. In response to requests from the American Lung Association of Florida, Inc., Environmental Defense, and David B. Rivkin, Jr. as counsel for Environmental Systems Products, Inc., EPA is extending the comment period for 30 days.

DATES: The comment period is extended until May 17, 2000.

ADDRESSES: Comments should be submitted to: Joey Levasseur at the EPA, Region 4 Air Planning Branch, 61 Forsyth Street, SW, Atlanta, Georgia 30303.

FOR FURTHER INFORMATION CONTACT: Joey Levasseur at 404/562-9035 (E-mail: levasseur.joey@epa.gov).

Dated: April 7, 2000.
A. Stanley Meiburg,
Acting Regional Administrator, Region 4.

[FR Doc. 00-9235 Filed 4-12-00; 8:45 am]

BILLING CODE 6560-50-P